DEPARTMENT OF HEALTH AND HUMAN SERVICES

Administration for Children and Families

Proposed Information Collection Activity; Evaluation of Project Connect (New Collection)

AGENCY: Office of Planning, Research, and Evaluation, Administration for Children and Families, HHS.

ACTION: Request for Public Comment.

SUMMARY: The Administration for Children and Families (ACF) at the U.S. Department of Health and Human Services (HHS) is proposing a new information collection to assess the implementation of Project Connect, a comprehensive home visitation intervention that provides home-based services and treatment to child welfare-involved, substance-affected families with children and adolescents ages 0 to 17.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The proposed information collection activity will assess the implementation of Project Connect, a comprehensive home visitation intervention that provides home-based services and treatment to child welfare-involved, substance-affected families with children and adolescents ages 0 to 17. The program aims to strengthen, and address the complex needs of, substance-affected families by providing intensive, long-term services that address issues of unhealthy parental substance use and help parents recover while keeping children safe. It focuses on maintaining children safely in their homes (preventing admission to care) or facilitating reunification when children have been placed in out-of-home care.

The implementation study will support a planned effectiveness evaluation that will rely on administrative data to examine the impact of the program on child welfare outcomes. These information collection activities will take place over the course of five site visits to the program and child welfare agency that are participating in the study. Information collection activities include interviews with program and child welfare agency administrators, focus groups with program and child welfare agency staff, interviews and focus groups with participants, interviews with other program stakeholders, and observations of program staff meetings, program delivery, and judicial hearings. Site visits will also include direct observations of staff delivery of the program, program staff meetings, and relevant judicial hearings/activities for program families.

This evaluation is part of a larger project to help ACF build the evidence base in child welfare through rigorous evaluation of programs, practices, and policies. The activities and products from this project will contribute to evidence building in child welfare and help to determine the effectiveness of a substance use program on child welfare outcomes.

Respondents: Semi-structured interviews will be completed with agency and program administrators, parents who are participating in the program, parents receiving services as usual, and other program stakeholders. Focus groups will be conducted with agency and program staff and parents who are participating in the program and parents receiving services as usual.

Annual Burden Estimates
Instrument | Number of respondents (total over request period) | Number of responses per respondent (total over request period) | Average burden per response (in hours) | Total burden (in hours) | Annual burden (in hours)
Interview Guide for Administrators (Project Connect, Child Welfare Agency, and Child Welfare Central Referral Unit) | 14 | 1 | 1 | 14 | 5
Focus Group Guide for Staff (Project Connect and Child Welfare Agency Staff) | 24 | 1 | 1.50 | 36 | 12
Interview Guide for Other Stakeholders (Behavioral Health and Judicial Stakeholders) | 12 | 1 | 1 | 12 | 4
Interview Guide for Families | 16 | 1 | 1 | 16 | 5
Focus Group Guide for Families | 24 | 1 | 1.5 | 36 | 12

Estimated Total Annual Burden Hours: 38.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Consideration will be given to comments and suggestions submitted within 60 days of this publication.

Authority: 42 U.S.C. 676.

Mary B. Jones,
ACF/OPRE Certifying Officer.

[FR Doc. 2021-05774 Filed 3-18-21; 8:45 am]

BILLING CODE 4184-25-P